INTERNATIONAL TRADE COMMISSION

[Investigation No. 337-TA-1326]

Certain Robotic Pool Cleaners and Components Thereof; Notice of a Commission Determination Not To Review Two Initial Determinations Terminating the Remaining Respondents and the Investigation in Its Entirety; Termination of Investigation

AGENCY: U.S. International Trade Commission.

ACTION: Notice.

SUMMARY: Notice is hereby given that the U.S. International Trade Commission has determined not to review two initial determinations (“IDs”) (Order Nos. 15 and 16) of the presiding administrative law judge (“ALJ”) terminating certain respondents based on a consent order, terminating the remaining respondents based on partial withdrawal of the complaint, and terminating the investigation in its entirety. The investigation is terminated.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On September 1, 2022, the Commission instituted this investigation under section 337 of the Tariff Act of 1930, as supplemented, 19 U.S.C. 1337 (“section 337”), based on a complaint filed by Zodiac Pool Systems LLC of Carlsbad, California and Zodiac Pool Care Europe, ZA La Balme of Belberaud, France (collectively, “Complainants”). See 87 FR 53788-89 (Sept. 1, 2022). The complaint alleges a violation of section 337 based upon the importation into the United States, sale for importation, or sale after importation into the United States of certain robotic pool cleaners and components thereof by reason of infringement of certain claims of U.S. Patent Nos. 8,393,029 and 8,393,031. Id. at 53789. The complaint further alleges that a domestic industry exists. Id. The notice of investigation names four respondents, including Wybotics Co. Ltd. d/b/a Winny Pool Cleaner, f/k/a Tianjin Wangyuan, Environmental Protection and Technology Co., Ltd. of Tianjin, China and Tianjin Pool & Spa Corporation of Commerce, California (collectively, “Wybotics”), as well as Shenzhen Aiper Intelligent Co., Ltd. of Guangdong Province, China; Aiper Intelligent, LLC of Roswell, Georgia; and Aiper, Inc. of Los Angeles, California (collectively, “the Aiper Entities”). Id.

On February 17, 2023, Complainants filed an unopposed motion to terminate this investigation with respect to the Aiper Entities based on a consent order stipulation and proposed consent order. No responses to the motion were filed.

On February 20, 2023, Complainants filed an unopposed motion to partially withdraw the complaint and terminate this investigation with respect to Wybotics, the remaining respondents. No responses to the motion were filed.

On February 21, 2023, the ALJ issued the two subject IDs. See Order No. 15 (Feb. 21, 2023); Order No. 16 (Feb. 21, 2023). The first subject ID (Order No. 15) grants the motion to terminate the Aiper Entities and finds that the unopposed motion, consent order stipulation, and proposed consent order satisfy the requirements of Commission Rules 210.21(c)(3) and (c)(4) (19 CFR 210.21(c)(3), (c)(4)). The first ID also finds that termination of the Aiper Entities would not be contrary to the public interest. The second subject ID (Order No. 16) grants the motion to terminate the Wybotics respondents, and thus the investigation in its entirety. The second subject ID finds that Complainants meet the requirements of Commission Rule 210.21(a) (19 CFR 210.21(a)) and there are no extraordinary circumstances that would prevent the requested termination of the investigation. The second subject ID also finds that termination of the investigation would not be contrary to the public interest.

On February 27, 2023, Wybotics filed a petition for limited review of Order No. 16. Specifically, Wybotics seeks review of the quotation of Complainants' statement that Wybotics “will no longer import or sell the Accused Products.” Wybotics did not seek review of the finding that the investigation should be terminated. On March 3, 2023, Complainants filed a response opposing Wybotics petition.

The Commission has determined not to review the subject IDs (Order Nos. 15 and 16). The Commission has issued a consent order directed to the Aiper Entities. The investigation is terminated.

The Commission vote for this determination took place on March 17, 2023.

The authority for the Commission's determination is contained in section 337 of the Tariff Act of 1930, as amended (19 U.S.C. 1337), and in Part 210 of the Commission's Rules of Practice and Procedure (19 CFR part 210).

By order of the Commission.
Issued: March 17, 2023.
Lisa Barton,
Secretary to the Commission.

[FR Doc. 2023-05936 Filed 3-22-23; 8:45 am]

BILLING CODE 7020-02-P